DEPARTMENT OF HOMELAND SECURITY

Coast Guard

33 CFR Part 117

[Docket No. USCG-2025-1113]

RIN 1625-AA09

Drawbridge Operation Regulation; Technical Amendment; Removal of Obsolete Drawbridge Operating Regulations

AGENCY: Coast Guard, DHS.

ACTION: Final rule.

SUMMARY: The Coast Guard is removing 81 special drawbridge operating regulations that previously operated over various waterways throughout the United States. In some cases, these 81 drawbridge regulations have either been replaced with a fixed bridge, removed from the waterway, or altered in such a manner that the drawspan is no longer moveable. Alternatively, the rail lines or roadways are no longer in service, leaving the drawspan inoperable, abandoned, and open to navigation. The drawbridges are, in some form, no longer operational and the regulations are no longer applicable or necessary.

DATES: This rule is effective January 26, 2026.

ADDRESSES: To view documents mentioned in this preamble as being available in the docket, go to https://www.regulations.gov. Type the docket number (USCG-2025-1113) in the “SEARCH” box and click “SEARCH”. In the Document Type column, select “Supporting & Related Material.”

FOR FURTHER INFORMATION CONTACT: If you have questions on this rule, call or email Mr. James Rousseau, Office of Bridge Programs; United States Coast Guard Headquarters; telephone 206-815-2101, email James.L.Rousseau2@uscg.mil.

SUPPLEMENTARY INFORMATION:

I. Table of Abbreviations

CFR Code of Federal Regulations

DHS Department of Homeland Security

FR Federal Register

OMB Office of Management and Budget

NPRM Notice of Proposed Rulemaking

§ Section

U.S.C. United States Code

II. Background Information and Regulatory History

Generally, rulemaking requires notice and comment under 5 U.S.C. 553. However, an agency can bypass the notice and comment process if the agency for good cause finds that those procedures are “impracticable, unnecessary, or contrary to the public interest.” Under 5 U.S.C. 553(b), the Coast Guard finds that good cause exists for not publishing a notice of proposed rulemaking (NPRM) with respect to this rule because the drawbridges identified in the 81 effected citations either do not exist or no longer function as a drawbridge. Therefore, their regulations are no longer applicable and need to be removed. It is unnecessary to publish an NPRM because these bridges are no longer operational and the removal of these drawbridge regulations will have no impact on the public. Removing the obsolete drawbridge regulations ensures that our regulations only list drawbridge regulations that have an operational span intended to be opened for the passage of waterway traffic.

Under 5 U.S.C. 553(d)(3), the Coast Guard finds that good cause exists for making this rule effective in less than 30 days after publication in the Federal Register. For the same reasons stated in the preceding paragraph, the bridges removed by this rule no longer have an operational drawspan and therefore have no need for any operating regulation. The modification or abandonment of these bridges has already taken place and the removal of the regulation will not affect any mariners that may currently transit on these waterways. Therefore, a delayed effective date is unnecessary.

III. Legal Authority and Need for Rule

The Coast Guard is issuing this rule under authority 33 U.S.C. 499. This authority authorizes the Secretary of the department in which the Coast Guard is operating to issue regulations that govern the opening of drawbridges for the passage of vessels and other water crafts. This authority is delegated to the Coast Guard by DHS Delegation No. 00170.1(II)(65), Rev. 01.4.

This rule removes operating schedules of several bridges listed in 33 CFR part 117, subpart B that no longer function as drawbridges.

IV. Discussion of Final Rule

This final rule will update 33 CFR part 117, subpart B by removing language that governs the operating schedule of the aforementioned bridges, which in fact, in their current state, are no longer drawbridges. The removal of these obsolete regulations will not affect waterway or land traffic. This rule conforms our regulations to reflect the current use of these bridges. In the preamble and regulatory sections of this final rule, the bridges are presented numerically based on their section number and, if applicable, paragraph lettering under 33 CFR part 117, subpart B.

The following bridges remain across their respective waterways and remain in use in their transportation function, however; have been converted to or replaced with a fixed bridge:

—§ 117.115(a) Three Mile Creek; Mobile, AL; US43 bridge, mile 1.0; Heartland District.

—§ 117.115(b) Three Mile Creek; Mobile, AL; Norfolk Southern railroad bridge, mile 1.1; Heartland District.

—§ 117.137 St. Francis River; Madison, AR; Chicago, Rock Island and Pacific railroad bridge, mile 59.7; Heartland District.

—§ 117.139(b) White River; Batesville, AR; Arkansas highway bridge, mile 300.1; Heartland District.

—§ 117.253(a) Anacostia River; Frederick Douglass Memorial (South Capitol Street) bridge, mile 1.2; East District.

—§ 117.317(b) Okeechobee Waterway; Stuart, FL; Evans Crary (SR A1A) bridge, mile 3.4; Southeast District.

—§ 117.333 Suwannee River; Old Town, FL; Suwannee River bridge, mile 35; Southeast District.

—§ 117.353 Atlantic Intracoastal Waterway, Savannah River to St. Marys River; Savannah, GA; Skidaway Bridge, SR 204, mile 592.9; Southeast District.

—§ 117.365 Oconee River; Soperton, GA; SR46 bridge, mile 44.3; Southeast District.

—§ 117.389 Calumet River; Chicago, IL; Norfolk Southern railroad bridges, miles 1.36.

—§ 117.447 Grand Cabahanosse Bayou; Paincourtsville, LA; S70 bridge, mile 7.6; Heartland District.

—§ 117.479 Macon Bayou; Winnsboro, LA; S4 bridge, mile 44.8; Heartland District.

—§ 117.482 Nezpique Bayou; Jennings, LA; S97 bridge, mile 7.0; Heartland District.

—§ 117.485 Patout Bayou; Weeks, LA; S83 bridge, mile 0.4; Heartland District.

—§ 117.493(b) Sabine River; Starks, LA; S12 Bridge, mile 40.8; Heartland District.

—§ 117.495 Superior Oil Canal; Cameron Parish, LA; S82 bridge, mile 6.3; Heartland District.

—§ 117.555 College Creek; Annapolis, MD; Naval Academy highway bridge, mile 0.3and the Maryland highway bridge, mile 0.4; East District.

—§ 117.677 Big Sunflower River; Baird, MS; Columbus and Greenville railroad bridge, mile 96.1; Heartland District.

—§ 117.689 Osage River; Osage City, MO; Missouri Pacific Railroad bridge, mile 5.6; Heartland District.

—§ 117.701(b) Alloway Creek; Quinton, NJ; S49 bridge, mile 9.5; East District.

—§ 117.703 Bass River; New Gretna, NJ; U.S. 9 bridge, mile 2.6; East District.

—§ 117.711 Cohansey River; Bridgeton, NJ; Broad Street bridge, mile 18.2; East District.

—§ 117.713(a) Cooper River; Camden, NJ; State Street Drawbridge, mile 0.3; Conrail Drawbridge at North River Avenue, mile 0.9; East District.

—§ 117.713(b) Cooper River; Camden, NJ: Admiral Wilson Boulevard bridge, mile 1.1; East District.

—§ 117.722 Great Egg Harbor Bay; U.S. Route 9/Beesleys Point Bridge, mile 3.5; East District.

—§ 117.725 Manantico Creek; Milleville, NJ; highway bridge, mile 0.5; East District.

—§ 117.730 Maurice River; Mauricetown, NJ; Cumberland County bridge, mile 12.1; East District.

—§ 117.732(a) Nacote Creek; Route 9 bridge, mile 1.5; East District.

—§ 117.732(b) Nacote Creek Port Republic, NJ; Atlantic County (Rte. 575) bridge, mile 3.5; East District.

—§ 117.739(m) Passaic River; Garfield, NJ; West Eighth Street Bridge, mile 15.3; East District.

—§ 117.741(a) Raccoon Creek; Bridgeport, NJ; Route 130 highway bridge, mile 1.8; East District.

—§ 117.749 Salem River; Salem, NJ; S49 bridge, mile 3.5; East District.

—§ 117.758 Tuckahoe River; Tuckahoe, NJ; State highway bridge, mile 8.0; East District.

—§ 117.791(d) Hudson River; between Troy and Menands, NY; Troy-Menands Bridge, mile 150.2; Northeast District.

—§ 117.797(d) Lake Champlain; East Alburg, NY; SR78 bridge, mile 105.9; Northeast District.

—§ 117.821(a)(2) Atlantic Intracoastal Waterway, Albermarle Sound to Sunset Beach; Surf City, NC; S.R. 50 Bridge, mile 260.7; East District.

—§ 117.821(a)(5) Atlantic Intracoastal Waterway, Albermarle Sound to Sunset Beach; Sunset Beach, NC; S.R. 1172 Bridge, mile 337.9

—§ 117.823 Gallants Channel; Beaufort, NC; US 70 bridge, mile 0.1; East District.

—§ 117.824 Neuse River; Kinston, NC; Atlantic and East Carolina Railway Bridge, mile 80.0; East District.

—§ 117.831 Pamlico and Tar Rivers; Grimesland, NC; Boyds Ferry bridge, mile 44.8; East District.

—§ 117.841 Smith Creek; Wilmington, NC; S117-S133 Bridge, mile 1.5; East District,

—§ 117.843(b) Trent River; Pollocksville, NC; Seaboard System Railroad bridge, mile 18.0. East District.

—§ 117.911(e) Atlantic Intracoastal Waterway, Little River to Savannah River; Johns Island, SC; John Limehouse Bridge, mile 479.3; Southeast District.

—§ 117.917 Battery Creek; between Beaufort and Parris Island, SC; State highway bridge, mile 2.1; Southeast District.

—§ 117.921(a) Broad River; Beaufort, SC; S170 bridge, mile 14.0; Southeast District.

—§ 117.927 Coosaw River (Whale Branch); Beaufort, SC; US21 bridge, mile 7.0: Southeast District.

—§ 117.933 Pee Dee River; Poston, SC; Seaboard System Railroad bridges, mile 72.6 and mile 107.2 near Pee Dee, SC; Southeast District.

—§ 117.935 Rantowles Creek; Rantowles, SC; Seaboard System Railroad bridge, 1.1; Southeast District.

—§ 117.939 Wando River; Cainhoy, SC; S41 bridge, mile 10.0; Southeast District.

—§ 117.945 Hatchie River; Covington, TN; Illinois Central Gulf railroad bridge, mile 35.0; Brownsville, TN; Seaboard System railroad bridge, mile 71.0; Heartland District.

—§ 117.947 Obion River; draws of all bridges on the Obion River; Heartland District.

—§ 117.963 Colorado River; Wadsworth, TX; highway bridge, mile 10.7; Heartland District.

—§ 117.969 Lavaca River; Vanderbilt, TX; highway bridge, mile 11.2; Heartland District.

—§ 117.979 Sabine Lake; Port Arthur, TX; S82 bridge, mile 10.0; Southeast District.

—§ 117.987 Taylor Bayou: West Port Arthur, TX, Union Pacific railroad bridge, mile 2.0, and the S73 bridge, mile 10.2; Heartland District.

—§ 117.989 Trinity River; Union Pacific Railroad bridges, mile 41.4 in Liberty, TX, mile 54.8 at Kenefick, TX, mile 117.3 at Goodrich, TX, mile 181.8 at Riverside, TX, and the Burlington Northern Santa Fe railroad bridge, mile 96.2 at Romayor, TX; Heartland District.

—§ 117.999 Blackwater River; South Quay, VA; S189 bridge, mile 9.2; East District.

—§ 117.1001 Cat Point Creek; Naylors, VA; S634 bridge, mile 0.3; East District.

—§ 117.1003 Chickahominy River; Barrets Ferry, VA; the highway bridge, mile 1.5; East District.

—§ 117.1011 Great Wicomico River; Tipers, VA; S200 bridge, mile 8.0; East District.

—§ 117.1013 Kinsale Creek; Kinsale, VA; the state highway bridge, mile 4.0; East District.

—§ 117.1015 Mattaponi River; West Point, VA; Lord Delaware (S33) bridge, mile 0.8 and Walkerton, VA S629 bridge, mile 28.5. East District.

—§ 117.1037(b) Cowlitz River; Allen Street Bridge, mile 5.5; Northwest District.

—§ 117.1057 Skamokawa Creek; Skamokawa, WA; Washington State highway bridge; Northwest District.

—§ 117.1059(d) Snohomish River, Steamboat Slough, and Ebey Slough; Snohomish, WA; Burlington Northern Santa Fe railroad bridge; mile 15.5; Northwest District.

The following bridges are no longer functional drawbridges. These bridges have either had their operable drawspan removed or the bridge was removed in whole from the waterway:

—§ 117.369 Satilla River; Woodbine, GA; Seaboard System Railroad bridge, mile 25.7; Southeast District.

—§ 117.371(a) Savannah River; Port Wentworth, GA; Houlihan (US 17) Bridge, mile 21.6; Southeast District.

—§ 117.471 Little Black Bayou; Southdown, LA; Southern Pacific railroad bridge, mile 1.3; Heartland District.

—§ 117.473 Little River; Archie, LA; Louisiana and Arkansas railroad bridge, mile 12.1; Heartland District.

—§ 117.491(d) Red River; draws of the bridges above mile 234.4 to mile 276; Heartland District.

—§ 117.499 Tante Phine Pass; Venice, LA; Tidewater Associated Oil Company bridge, mile 7.6; Heartland District.

—§ 117.501(c) Teche Bayou; Union Pacific railroad bridge at Breaux Bridge, mile 91.0; Heartland District.

—§ 117.503 Tensas River; New Light, LA; S128 bridge, mile 61.0; Heartland District.

—§ 117.663 Minnesota River; draws of bridges above LeSueur; Heartland District.

—§ 117.665 Red River of the North; draws of the bridges; Great Lakes District.

—§ 117.745(c) Rancocas Creek; Mt. Laurel, NJ; Centerton County Route 635 Bridge, mile 7.8; East District.

—§ 117.837 Roanoke River; Palmyra, NC; Seaboard System Railroad bridge, mile 94.0; East District.

—§ 117.921(b) Broad River; Whale Branch; Seaboard System Railroad bridge, mile 17.0; Southeast District.

—§ 117.927 Coosaw River (Whale Branch); Seabrook, SC; Seaboard System Railroad bridge, mile 5.3. Southeast District.

—§ 117.955(b) Buffalo Bayou; Union Pacific Railroad Bridge, mile 3.1; Heartland District.

—§ 117.957 Cedar Bayou; Baytown, TX, Union Pacific railroad automated bridge, mile 7.0; Heartland District.

—§ 117.1105 Wisconsin River; each drawbridge across the Wisconsin River; Great Lakes District.

The following bridges remain in the waterway and are open to navigation or abandoned in the open to navigation position.

—§ 117.121 Arkansas River; Yancopin, AR; Missouri Pacific Railroad bridge, mile 23.1; Heartland District.

—§ 117.139(b) White River; Cotter, AR; Missouri Pacific railroad bridge, mile 401.9; Heartland District.

—§ 117.389 Calumet River; Chicago, IL; Norfolk Southern railroad bridges, miles 1.32. Great Lakes District.

—§ 117.686(a) Yazoo River; Redwood, MS; Canadian National/Illinois Central railroad bridge, mile 16.7; Heartland District.

—§ 117.809 Tonawanda Creek; Tonawanda, NY; Penn Central Corporation railroad bridge, mile 0.1; Great Lakes District.

—§ 117.811 Tonawanda Harbor; Tonawanda, NY; Tonawanda Island Railroad bridge, mile 0.2; Great Lakes District.

—35§ 117.903(b) Darby Creek; Essington, PA; Reading Railroad Bridge, mile 0.3; East District.

V. Regulatory Analyses

We developed this rule after considering numerous statutes and Executive Orders related to rulemaking. Below we summarize our analyses based on a number of these statutes and Executive Orders.

A. Impact on Small Entities

The regulatory flexibility analysis provisions of the Regulatory Flexibility Act of 1980, 5 U.S.C. 601-612, do not apply to rules that are not subject to notice and comment. Because the Coast Guard has good cause to bypass the notice and comment requirement that would otherwise apply to this rulemaking, the Regulatory Flexibility Act's flexibility analysis provisions do not apply here.

Under section 213(a) of the Small Business Regulatory Enforcement Fairness Act of 1996 (Pub. L. 104-121), if this rule will affect your small business, organization, or governmental jurisdiction and you have questions, contact the person listed in the FOR FURTHER INFORMATION CONTACT section.

Small businesses may send comments to the Small Business and Agriculture Regulatory Enforcement Ombudsman and the Regional Small Business Regulatory Fairness Boards by calling 1-888-REG-FAIR (1-888-734-3247). The Coast Guard will not retaliate against small entities that question or complain about this rule or any policy or action of the Coast Guard.

B. Collection of Information

This rule calls for no new collection of information under the Paperwork Reduction Act of 1995 (44 U.S.C. 3501-3520).

C. Federalism and Indian Tribal Government

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

E. Environment

We have analyzed this rule under Department of Homeland Security Management Directive 023-01, Rev.1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule is a conforming amendment and removes the operating regulations or procedures for drawbridges. Both actions are categorically excluded from further review, under paragraph A3 and L49, of Appendix A, Table 1 of DHS Instruction Manual 023-01-001-01, Rev. 1.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and DHS Delegation No. 00170.1. Revision No. 01.4.

§ 117.115 [Removed]

2. Remove § 117.115.

§ 117.121 [Removed]

3. Remove § 117.121.

§ 117.137 [Removed]

4. Remove § 117.137.

5. Revise § 117.139 to read as follows:

§ 117.139 White River.

The draws of the St. Louis Southwestern railroad bridge, mile 98.9 at Clarendon, the Missouri Pacific railroad bridge, mile 196.3 at Augusta and the Missouri Pacific railroad bridge, mile 254.8 at Newport, shall open on signal if at least eight hours' notice is given. The draws of any of these bridges need not be opened for a vessel that arrives later than two hours after the time specified in the notice, unless a second notice of at least eight hours is given.

6. Revise § 117.253 to read as follows:

§ 117.253 Anacostia River.

The CSX Railroad Bridge, mile 3.4.

(a) The draw of the bridge to be operated by the controller at the Benning Yard office shall open on signal:

(1) At all times for public vessels of the United States, state and local government vessels, commercial vessels and any vessels in an emergency involving danger to life or property.

(2) Between 9 a.m. and 12 p.m. and between 1 p.m. and 6 p.m. from May 15 through September 30.

(3) Between 6 p.m. and 7 p.m. from May 15 through September 30 if notice is given to the controller at the Benning Yard office not later than 6 p.m. on the day for which the opening is requested.

(4) At all other times, if at least 48 hours of notice is given to the controller at the Benning Yard Office.

(b) The CSX Railroad Bridge shall not be operated by the controller at the Benning Yard office in the event of failure or obstruction of the motion sensors, laser scanners, video cameras or marine-radio communications, In these situations, a bridge tender must be called to operate the bridge on-site.

(c) Except as provided in § 117.31(b), opening of the draw shall not exceed ten minutes after clearance of rail traffic.

(d) A horn will sound one prolonged blast followed by one short blast to indicate that the CSX Railroad Bridge is moving to the full open position for vessel traffic. During open span movement, the channel traffic lights will flash red until the bridge is in the full open position to vessels. In the full open position to vessels, the bridge channel traffic lights will flash green.

(e) A horn will sound five short blasts, the channel traffic lights will flash red, and an audio voice-warning device will announce bridge movement during closing span movement. Five short blasts of the horn will continue until the bridge is seated in and locked down. When the bridge is seated and in locked down position to vessels, the channel traffic lights will continue to flash red.

(f) The owners of the bridge shall provide and keep in good legible condition two board gauges painted white with black figures not less than six inches high to indicate the vertical clearance under the closed draw at all stages of the tide. The gauges shall be placed on the bridge so that they are plainly visible to the operator of any vessel approaching the bridge from either upstream or downstream.

§ 117.317 [Amended]

7. Amend § 117.317 by removing paragraph (b) and redesignating paragraphs (c) through (j) as paragraphs (b) through (i).

§ 117.333 [Removed]

8. Remove § 117.333.

§ 117.353 [Removed]

9. Remove § 117.353.

§ 117.365 [Removed]

10. Remove § 117.365.

§ 117.369 [Removed]

11. Remove § 117.369.

§ 117.371 [Amended]

12. Amend § 117.371 by removing paragraph (a) and redesignating paragraphs (b) through (d) as paragraphs (a) through (c).

§ 117.389 [Removed]

13. Remove § 117.389.

§ 117.447 [Removed]

14. Remove § 117.447.

§ 117.471 [Removed]

15. Remove § 117.471.

§ 117.473 [Removed]

16. Remove § 117.473.

§ 117.479 [Removed]

17. Remove § 117.479.

§ 117.482 [Removed]

18. Remove § 117.482.

§ 117.485 [Removed]

19. Remove § 117.485.

§ 117.491 [Amended]

20. Amend § 117.491 by removing paragraph (d) and redesignating paragraph (e) as paragraph (d).

21. Revise § 117.493 to read as follows:

§ 117.493 Sabine River.

The draw of the Union Pacific railroad bridge, mile 19.3 near Echo shall open on signal if at least 14 days' notice is given.

§ 117.495 [Removed]

22. Remove § 117.495.

§ 117.499 [Removed]

23. Remove § 117.499.

24. Revise paragraph (c) of § 117.501 to read as follows:

§ 117.501 Teche Bayou.

* * * * *

(c) The draw of the S31 bridge, mile 90.5, at Breaux Bridge shall open on signal if at least 48 hours notice is given.

* * * * *

25. Revise § 117.503 to read as follows:

§ 117.503 Tensas River.

The draw of the S15 bridge, mile 27.3 at Clayton shall open on signal if at least 48 hours notice is given.

§ 117.555 [Removed]

26. Remove § 117.555.

§ 117.663 [Removed]

27. Remove § 117.663.

§ 117.677 [Removed]

28. Remove § 117.677.

29. Revise paragraph (a) of § 117.686 to read as follows:

§ 117.686 Yazoo River.

(a) The Satartia highway (S433) bridge, mile 53.3 at Satartia, shall open on signal if at least two hours notice is given. When a vessel has given notice and fails to arrive within the two hour period specified, the drawtender shall remain on duty for two additional hours and open the draw if the requesting vessel appears. After this time, an additional two hour notice is required.

* * * * *

§ 117.689 [Removed]

30. Remove § 117.689.

31. Revise § 117.701 to read as follows:

§ 117.701 Alloway Creek.

The draws of the Salem County bridges, miles 5.1 at Hancocks Bridge, and 6.5 at New Bridge, shall open on signal if at least 24 hours notice is given.

§ 117.703 [Removed]

32. Remove § 117.703.

§ 117.711 [Removed]

33. Remove § 117.711.

§ 117.713 [Removed]

34. Remove § 117.713.

§ 117.722 [Removed]

35. Remove § 117.722.

§ 117.725 [Removed]

36. Remove § 117.725.

§ 117.730 [Removed]

37. Remove § 117.730.

§ 117.732 [Removed]

38. Remove § 117.732.

§ 117.739 [Amended]

39. Amend § 117.739 by removing paragraph (m).

40. Revise § 117.741 to read as follows:

§ 117.741 Raccoon Creek.

The draw of the CONRAIL Railroad Bridge, mile 2.0 at Bridgeport, shall operate as follows:

(a) From March 1 through November 30, the draw shall be left in the open position at all times and will only be closed for the passage of trains and to perform periodic maintenance authorized in accordance with subpart A of this part.

(1) Trains shall be controlled so that any delay in opening of the draw shall not exceed ten minutes except as provided in § 117.31(b).

(2) Before the bridge closes for any reason, a train crewmember will observe the waterway for approaching craft, which will be allowed to pass. A train crewmember will then operate the bridge by radiophone. The bridge shall only be closed if a train crewmember's visual inspection shows that the channel is clear and there are no vessels transiting in the area.

(3) While the CONRAIL Railroad Bridge is moving from the full open to the full closed position, a train crewmember will maintain constant surveillance of the navigational channel to ensure no conflict with maritime traffic exists. In the event of failure or obstruction, the train crewmember will stop the bridge and return the bridge to the open position.

(4) The CONRAIL Railroad channel traffic lights will change from flashing green to flashing red anytime the bridge is not in the full open position.

(5) During closing of the span, the channel traffic lights will change from flashing green to flashing red, the horn will sound four times, followed by a pause, then the four blasts will be repeated and the bridge will close. When the rail traffic has cleared the swing span, the horn will automatically sound five times to signal the draw of the CONRAIL Railroad Bridge is about to return to its full open position.

(6) During open span movement, the channel traffic lights will be flashing red, the horn will sound four times, followed by a pause, then four blasts will be repeated until the bridge is in the full open position. In the full open position, the channel traffic lights will then turn from flashing red to flashing green.

(b) At all other times, the draw may be left in the closed position and opened on signal if at least four hours notice is given by telephone at (856) 231-2393.

§ 117.745 [Amended]

41. Amend § 117.745 by removing paragraph (c).

§ 117.749 [Removed]

42. Remove § 117.749.

§ 117.758 [Removed]

43. Remove § 117.758.

§ 117.791 [Amended]

44. Amend § 117.791 by removing paragraph (d) and redesignating paragraph (e) as paragraph (d).

§ 117.797 [Amended]

45. Amend § 117.797 by removing paragraph (d).

§ 117.809 [Removed]

46. Remove § 117.809.

§ 117.811 [Removed]

47. Remove § 117.811.

§ 117.821 [Amended]

48. Amend § 117.821 by removing paragraphs (a)(2) and (a)(5) and redesignating paragraphs (a)(3) and (a)(4) as paragraphs (a)(2) and (a)(3), respectively.

§ 117.823 [Removed]

49. Remove § 117.823.

§ 117.824 [Removed]

50. Remove § 117.824.

51. Revise § 117.831 to read as follows:

§ 117.831 Pamlico and Tar Rivers.

The draw of the US17-264 bridge, mile 37.2 at Washington, shall open on signal if at least 24 hours notice is given. The bridge owners shall restore constant attendance when so directed by the District Commander.

§ 117.837 [Removed]

52. Remove § 117.837.

§ 117.841 [Removed]

53. Remove § 117.841.

54. Revise § 117.843 to read as follows:

§ 117.843 Trent River.

The draw of the U.S. 70 Bridge, mile 0.0, at New Bern:

(a) Shall open on the hour and the half hour from 6 a.m. to 10 p.m., except during the times authorized in accordance with (a) (2) of this section.

(b) Shall remain closed from 7:30 a.m. to 8:30 a.m. and from 4:30 p.m. to 6 p.m., Monday through Friday; except holidays.

(c) Shall open on signal from 10 p.m. to 6 a.m.

(d) Shall open upon request at all times for vessels as defined in § 117.31.

55. Revise § 117.903 to read as follows:

§ 117.903 Darby Creek.

The draw of the Conrail railroad bridge, mile 0.25, at Essington, shall operate as follows:

(a) The bridge will be operated remotely by the South Jersey Train Dispatcher located in Mt. Laurel, NJ. Operational information will be provided 24 hours a day by telephone at (856) 231-2282.

(b) From April 1 through October 31, the draw shall be left in the open position and will only be lowered for the passage of trains and to perform periodic maintenance authorized in accordance with subpart A of this part.

(c) From November 1 through March 31, the draw shall open on signal if at least 24 hours notice is given by telephone at (856) 231-2282. Operational information will be provided 24 hours a day by telephone at (856) 231-2282.

(d) The timeframe to initiate the bridge closure will be not more than 10 minutes before a train will arrive at the bridge location. If a train, moving toward the bridge has crossed the home signal for the bridge, the train may continue across the bridge and must clear the bridge prior to stopping for any reason. Trains shall be controlled so that any delay in opening of the draw shall not exceed fifteen minutes except as provided in § 117.31(b).

(e) The bridge will be equipped with cameras and channel sensors to visually and electronically ensure the waterway is clear before the bridge closes. The video and sensors are located and monitored at the remote operating location in Mt. Laurel, NJ. The channel sensors signal will be a direct input to the bridge control system. In the event of failure or obstruction of the infrared channel sensors, the bridge will automatically stop closing and the South Jersey Train Dispatcher will return the bridge to the open position. In the event of video failure the bridge will remain in the full open position.

(f) The Conrail Railroad center span light will change from fixed green to flashing red anytime the bridge is not in the full open position.

(g) Prior to downward movement of the span, the horn will sound two prolonged blasts, followed by a pause, and then two short blasts until the bridge is seated and locked down. At the time of movement, the center span light will change from fixed green to flashing red and remain flashing until the bridge has returned to its full open position.

(h) When the train controller at Mt. Laurel has verified that rail traffic has cleared, they will sound the horn five times to signal the draw is about to return to its full open position.

(i) During upward movement of the span, the horn will sound two prolonged blasts, followed by a pause, and then sound two short blasts until the bridge is in the full open position. The center span light will continue to flash red until the bridge is in the fully open position.

(j) When the draw cannot be operated from the remote site, a bridge tender must be called to operate the bridge in the traditional manner. Personnel shall be dispatched to arrive at the bridge as soon as possible, but not more than one hour after malfunction or disability of the remote system.

§ 117.911 [Amended]

56. Amend § 117.911 by removing paragraph (e) and redesignating paragraph (f) as paragraph (e).

§ 117.917 [Removed]

57. Remove § 117.917.

§ 117.921 [Removed]

58. Remove § 117.921.

§ 117.927 [Removed]

59. Remove § 117.927.

§ 117.933 [Removed]

60. Remove § 117.933.

§ 117.935 [Removed]

61. Remove § 117.935.

§ 117.939 [Removed]

62. Remove § 117.939.

§ 117.945 [Removed]

63. Remove § 117.945.

§ 117.947 [Removed]

64. Remove § 117.947.

65. Revise § 117.955 to read as follows:

§ 117.955 Buffalo Bayou.

The draw of the Houston Belt and Terminal railroad bridge, mile 1.2 at Houston, and all drawbridges downstream of it, shall open on signal if at least 24 hours' notice if given.

§ 117.957 [Removed]

66. Remove § 117.957.

§ 117.963 [Removed]

67. Remove § 117.963.

§ 117.969 [Removed]

68. Remove § 117.969.

§ 117.979 [Removed]

69. Remove § 117.979.

§ 117.987 [Removed]

70. Remove § 117.987.

71. Revise § 117.989 to read as follows:

§ 117.989 Trinity River.

The draws of the Union Pacific Railroad bridges, mile 117.3 at Goodrich, mile 181.8 at Riverside, and the Burlington Northern Santa Fe railroad bridge, mile 96.2 at Romayor, need not be opened for the passage of vessels.

§ 117.999 [Removed]

72. Remove § 117.999.

§ 117.1001 [Removed]

73. Remove § 117.1001.

§ 117.1003 [Removed]

74. Remove § 117.1003.

§ 117.1011 [Removed]

75. Remove § 117.1011.

§ 117.1013 [Removed]

76. Remove § 117.1013.

§ 117.1015 [Removed]

77. Remove § 117.1015.

78. Revise § 117.1037 to read as follows:

§ 117.1037 Cowlitz River.

The draw of the Burlington Northern Santa Fe railroad bridge, mile 1.5, shall operate as follows:

(a) The draw shall open on signal if at least 24 hours notice is given.

(b) In the event of an emergency declared by the Cowlitz County Department of Emergency Services, the bridge shall be capable of opening upon two hours notice. Notification of emergencies and requests for openings during emergencies are initiated through the Cowlitz County Department of Emergency Services.

(c) The operating machinery of the draw shall be maintained in a serviceable condition and the draw shall be opened and closed at intervals frequent enough to make certain that the machinery is in proper order for satisfactory operation.

(d) During periods of fog or similar periods of reduced visibility, the drawtender, after acknowledging the signal to open, shall toll a bell continuously during the approach and passage of the vessel.

§ 117.1057 [Removed]

79. Remove § 117.1057.

§ 117.1059 [Amended]

80. Amend § 117.1059 by removing paragraph (d) and redesignating paragraphs (e), (f), and (g) as paragraphs (d), (e), and (f).

§ 117.1105 [Removed]

81. Remove § 117.1105.

Michael T. Cunningham,
Chief, Office of Regulations and Administrative Law, U.S. Coast Guard.

[FR Doc. 2026-01400 Filed 1-23-26; 8:45 am]

BILLING CODE 9110-04-P